NUCLEAR REGULATORY COMMISSION

[Docket Nos. 50-315 and 50-316]

Indiana Michigan Power Company; Notice of Withdrawal of Application for Amendment to Facility Operating License

The U.S. Nuclear Regulatory Commission (the Commission) has granted the request of the Indiana Michigan Power Company (the licensee) to withdraw its February 14, 2004, application for proposed amendment to Facility Operating License Nos. DPR-58 and DPR-74 for the Donald C. Cook Nuclear Plant, Units 1 and 2, located in Berrien County, Michigan.

The proposed amendment would have revised the Technical Specifications (TSs) governing containment penetrations and the Containment Purge and Exhaust Isolation System, which are applicable during core alterations and movement of irradiated fuel, such that those TSs would only be applicable during the movement of recently irradiated fuel.

The Commission had previously issued a Notice of Consideration of Issuance of Amendment published in the Federal Register on May 11, 2004 (69 FR 26191). However, by letter dated November 4, 2004, the licensee withdrew the proposed change.

For further details with respect to this action, see the application for amendment dated February 14, 2004, and the licensee's letter dated November 4, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR reference staff by telephone at 1-800-397-4209, or 301-415-4737 or by e-mail to pdr@nrc.gov. Note: Public access to ADAMS has been temporarily suspended so that security reviews of publicly available documents may be performed and potentially sensitive information removed. Please check the NRC Web site for updates on the resumption of ADAMS access.

Dated at Rockville, Maryland, this 15th day of November 2004.
For the Nuclear Regulatory Commission.
Carl F. Lyon,
Project Manager, Section 1, Project Directorate III, Division of Licensing Project Management, Office of Nuclear Reactor Regulation.

[FR Doc. 04-27325 Filed 12-14-04; 8:45 am]

BILLING CODE 7590-01-P